DEPARTMENT OF ENERGY

Federal Energy Regulatory Commission

Sunshine Act Meeting Notice

October 8, 2009.

The following notice of meeting is published pursuant to section 3(a) of the government in the Sunshine Act (Pub. L. 94-409), 5 U.S.C. 552b:

Agency Holding Meeting: Federal Energy Regulatory Commission.

Date and Time: October 15, 2009, 10 a.m.

Place: Room 2C, 888 First Street, NE., Washington, DC 20426.

Status: Open.

Matters To Be Considered: Agenda.*

Note —Items listed on the agenda may be deleted without further notice.

Contact Person For More Information: Kimberly D. Bose, Secretary, Telephone (202) 502-8400. For a recorded message listing items struck from or added to the meeting, call (202) 502-8627.

This is a list of matters to be considered by the Commission. It does not include a listing of all documents relevant to the items on the agenda. All public documents, however, may be viewed on line at the Commission's Web site at http://www.ferc.gov using the eLibrary link, or may be examined in the Commission's Public Reference Room.

952nd—Meeting

Regular Meeting [October 15, 2009, 10 a.m.]
Item No | Docket No. | Company
Administrative
A-1 | AD02-1-000 | Agency Administrative Matters—FERC Strategic Plan.
A-2 | AD02-7-000 | Customer Matters, Reliability, Security and Market Operations.
A-3 | AD06-3-000 | Winter Energy Market Assessment.
Electric
E-1 | OA08-52-004 | New York Independent System Operator, Inc.
| OA08-52-006 | New York Transmission Owners.
E-2 | OA08-52-005 | New York Independent System Operator, Inc.
E-3 | RR09-9-000 RR08-6-004. RR07-14-004. | North American Electric Reliability Corporation.
E-4 | NP09-26-000 | North American Electric Reliability Corporation.
E-5 | Omitted.
E-6 | RM08-12-001 | Western Electricity Coordinating Council Regional Reliability Standard Regarding Automatic Time Error Correction.
E-7 | RM09-23-000 | Revisions to Form, Procedures, and Criteria for Certification of Qualifying Facility Status for a Small Power Production or Cogeneration Facility.
E-8 | RM09-24-000 | Interest Rates for Refunds.
E-9 | ER06-456-006 ER06-954-002. ER06-1271-001. ER07-424-000. EL07-57-000. | PJM Interconnection, L.L.C.
E-10 | ER08-15-002 | Midwest ISO Transmission Owners.
E-11 | Omitted.
E-12 | Omitted.
E-13 | ER02-2560-009 | Louisville Gas & Electric Company Kentucky Utilities Company.
Miscellaneous
M-1 | RM07-1-001 | Standards of Conduct for Transmission Providers.
Gas
G-1 | RP99-480-024 RP09-143-000. | Texas Eastern Transmission, LP.
G-2 | RP09-70-000 | Texas Eastern Transmission LP.
| RP09-71-000 | Saltville Gas Storage Company L.L.C.
| RP09-76-000 | East Tennessee Natural Gas, L.L.C.
| RP09-77-000 | Egan Hub Storage, L.L.C.
| RP09-222-000 | ANR Pipeline Co.
| RP09-227-000 | Northwest Pipeline GP.
| RP09-240-000 | Natural Gas Pipeline Co. of America.
| RP09-245-000 | Transcontinental Gas Pipeline Co., L.L.C.
| RP09-256-000 | Panhandle Eastern Pipeline Co., LP.
| RP09-258-000 | Quest Pipelines (KPC).
| RP09-260-000 | Tres Palacios Gas Storage, LLC.
| RP09-261-000 | CenterPoint Energy Gas Transmission Co.
| RP09-262-000 | CenterPoint Energy-Mississippi River Transmission Co.
| RP09-265-000 | Kinder Morgan Interstate Gas Transmission LLC.
| RP09-266-000 | Rockies Express Pipeline LLC.
| RP09-269-000 | National Fuel Supply Corp.
| RP09-270-000 | Questar Pipeline Co.
| RP09-275-000 | Columbia Gulf Transmission Co.
| RP09-277-000 | Dominion Transmission, Inc.
| RP09-282-000 | Tennessee Gas Pipeline Co.
| RP09-284-000 | El Paso Natural Gas Co.
| RP09-288-000 | Southern Natural Gas Co.
| RP09-294-000 | Columbia Gas Transmission, LLC.
| RP09-295-000 | Colorado Interstate Gas Co.
| RP09-299-000 | Wyoming Interstate Co., Ltd.
| RP09-300-000 | Cheyenne Plains Gas Pipeline Co., LLC.
| RP09-301-000 | Gulf South Pipeline Co., LP.
| RP09-304-000 | Texas Gas Transmission, LLC.
| RP09-332-000 | Enbridge Pipelines (Midla), LLC.
G-3 | RP09-792-000 | Columbia Gas Transmission, LLC.
| RP09-792-001. |
Hydro
H-1 | P-2130-038 | Pacific Gas and Electric Company.
H-2 | Omitted. |
H-3 | P-459-282 | AmerenUE.
H-4 | P-2197-096 | Alcoa Power Generating Inc.
Certificates
C-1 | CP09-65-000 | Columbia Gas Transmission, LLC. Jefferson Gas, LLC.
C-2 | CP09-454-000 | BCR Holdings, Inc.
C-3 | CP08-431-001 | Columbia Gas Transmission LLC

Kimberly D. Bose,
Secretary.

A free Web cast of this event is available through http://www.ferc.gov. Anyone with Internet access who desires to view this event can do so by navigating to http://www.ferc.gov's Calendar of Events and locating this event in the Calendar. The event will contain a link to its Web cast. The Capitol Connection provides technical support for the free Web casts. It also offers access to this event via television in the DC area and via phone bridge for a fee. If you have any questions, visit http://www.CapitolConnection.org or contact Danelle Springer or David Reininger at 703-993-3100.

Immediately following the conclusion of the Commission Meeting, a press briefing will be held in the Commission Meeting Room. Members of the public may view this briefing in the designated overflow room. This statement is intended to notify the public that the press briefings that follow Commission meetings may now be viewed remotely at Commission headquarters, but will not be telecast through the Capitol Connection service.

[FR Doc. E9-24780 Filed 10-9-09; 4:15 pm]

BILLING CODE 0717-01-P